DEPARTMENT OF THE TREASURY

Submission for OMB Review; Comment Request

January 6, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 14, 2005, to be assured of consideration.

Departmental Offices/Office of Foreign Assets Control

OMB Number: 1505-0167.

Form Numbers: TD F 90-22.52.

Type of Review: Extension.

Title: Cuban Remittance Affidavit.

Description: Submissions will provide the U.S. Government with information to be used in enforcing the prohibitions on the transmission of funds to Cuba by persons subject to U.S. jurisdiction.

Respondents: Individuals or households, Business or other for-profit.

Estimated Number of Respondents/Recordkeepers: 2,100,000.

Estimated Burden Hours Per Respondent/Recordkeeper: 1 minute.

Frequency of Response: Other (variable).

Estimated Total Reporting/Recordkeeping Burden: 65,000 hours.

Clearance Officer: Lois K. Holland, Departmental Offices, Room 2110, 1425 New York Avenue, NW., Washington, DC 20220, (202) 622-1563.

OMB Reviewer: Joseph F. Lackey, Jr., Office of Management and Budget, Room 10235, New Executive Office Building, Washington, DC 20503, (202) 395-7316.

Lois K. Holland,
Treasury PRA Clearance Officer.

[FR Doc. 05-823 Filed 1-13-05; 8:45 am]

BILLING CODE 4811-16-P